DEPARTMENT OF COMMERCE

National Oceanic and Atmospheric Administration

[RTID 0648-XE646]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Snapper Grouper Commercial Sub-Committee; Habitat & Ecosystem Committee; Joint Habitat & Ecosystem and Shrimp Committee; Snapper Grouper Committee, Mackerel Cobia Committee, and the Southeast Data, Assessment, and Review (SEDAR) Committee. The meeting week will also include a formal public comment session and meetings of the Full Council.

DATES: The Council meeting will be held from 9 a.m. on Monday, March 3, 2025, until 12 p.m. on Friday, March 7, 2025.

ADDRESSES:

Meeting address: The meeting will be held at the Villas by the Sea, 1175 Beechview Drive N, Jekyll Island, GA 31527; phone: (912) 635-2521.

The meeting will also be available via webinar. See SUPPLEMENTARY INFORMATION.

Council address: South Atlantic Fishery Management Council, 4055 Faber Place Drive, Suite 201, N Charleston, SC 29405.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/march-2025-council-meeting/. Written comments will be accepted from February 14, 2025, until March 7, 2025. These comments are accessible to the public, part of the Administrative Record of the meeting, and immediately available for Council consideration. A formal public comment session will also be held during the Council meeting.

The items of discussion in the individual meeting agendas are as follows:

Snapper Grouper Commercial Sub-Committee, Monday, March 3, 2025, 9 a.m. until 12 p.m.

The Snapper Grouper Commercial Sub-Committee will review commercial data, discuss issues to be addressed in the commercial snapper grouper fishery and prioritization, and discuss next steps and timelines.

Council Session I, Monday, March 3, 2025, 1:30 p.m. until 2:30 p.m. (CLOSED SESSION)

The Council will meet in closed session to receive a litigation brief if needed, review the advisory panel policy as it relates to background checks for applicants, consider recommendations from the Law Enforcement Advisory Panel (AP), and propose policy modifications as needed. The Council will also consider appointments to the SEDAR 90 (South Atlantic Red Snapper) stock assessment data workshop, liaison appointments to the Shrimp AP, and other appointments as needed.

Council Session I, Monday, March 3, 2025, 2:30 p.m. until 5 p.m. and Tuesday, March 4, 2025, 8:30 a.m. until 3 p.m.

The Council will receive a litigation brief and reports from the Council's Law Enforcement Advisory Panel on items not included in the March agenda, Council liaisons, state agencies, NOAA Fisheries Southeast Regional Office (SERO), and NOAA Fisheries Southeast Science Center. The Council will also receive a presentation on the Mid-Atlantic Fishery Management Council's Recreational Reform Initiative. The Council will review the Southeast For-Hire Integrated Electronic Reporting (SEFHIER) Improvement Amendment currently under development. The Amendment review will include recommendations from the Council's For-Hire Reporting Advisory Panel (AP), Law Enforcement AP, and a presentation from NOAA Fisheries SERO. The Council will consider approving the amendment for public scoping.

Council members are scheduled to receive a presentation on the Florida Keys National Marine Sanctuary Fisheries Protocol, discuss topics for the Dolphin Wahoo AP Spring 2025 meeting, and Climate Projects including Inflation Reduction Act (IRA) projects and the Climate and Ecosystem Fisheries Initiative.

Habitat & Ecosystem Committee, Tuesday, March 4, 2025, 3 p.m. until 4 p.m.

The Committee will receive a report from the Habitat and Ecosystem AP, a 2024 Habitat Report, an update on the Essential Fish Habitat Mapper, and discuss topics for the July 2025 Habitat and Ecosystem AP meeting.

Joint Habitat & Ecosystem and Shrimp Committees, Tuesday, March 4, 2025, 4 p.m. until 5 p.m.

The Committees will receive an overview of a draft comprehensive amendment (Coral Amendment 11 and Shrimp Amendment 12) addressing shrimp access areas and provide direction to staff.

Snapper Grouper Committee, Wednesday, March 5, 2025, 8:30 a.m. until 3:45 p.m. and Thursday, March 6, 2025, 8:30 a.m. until 12 p.m.

The Committee will receive an Exempted Fishing Permit briefing (if needed), an update on the status of amendments under review from NOAA Fisheries, discuss possible revisions to the Snapper Grouper Management Complex management unit, and amendment development and timing for management measures for golden tilefish. The Committee will receive a presentation on Maximum Sustainable Yield Proxies and an update on a Secretarial Amendment to end overfishing of red snapper in the South Atlantic, both from NOAA Fisheries.

The Committee will review public scoping comments on Amendment 56 to the Snapper Grouper Fishery Management Plan addressing management measures for black sea bass, draft Amendment 46 addressing Recreational Permit and Education Requirements (Snapper Grouper Amendment 46), receive a report from the Snapper Grouper Commercial Sub-Committee regarding amendment development and timing, and discuss topics for the Spring meeting of the Snapper Grouper AP.

Mackerel Cobia Committee, Thursday, March 6, 2025, 1:30 p.m. until 3 p.m.

The Committee will receive an update on the 4(d) rule on the giant manta ray (if needed), a report on Mackerel Port Meetings conducted in 2024-25, and discuss topics for the Spring meeting of the Mackerel Cobia AP.

Wednesday, March 5, 2025, 4 p.m.—Public comment will be accepted from individuals attending the meeting in person and via webinar on all items on the Council meeting agenda. The Council Chair will determine the amount of time provided to each commenter based on the number of individuals wishing to comment.

SEDAR Committee, Thursday, March 6, 2025, 3 p.m. until 5 p.m.

The Committee will receive a report from the SEDAR Steering Committee, review Statements of Work, continue discussion of identifying Key Stocks, and consider changes to the Committee name and responsibilities to better reflect what this Committee does.

Council Session II, Friday, March 7, 2025, 8:30 a.m. until 12 p.m.

Council will receive Committee reports, review the Council Workplan and upcoming meetings, and discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: February 7, 2025.
Rey Israel Marquez,
Acting Deputy Director, Office of Sustainable Fisheries, National Marine Fisheries Service.

[FR Doc. 2025-02532 Filed 2-11-25; 8:45 am]

BILLING CODE 3510-22-P